ENVIRONMENTAL PROTECTION AGENCY

[OW-2008-0357, FRL-8688-8]

Agency Information Collection Activities: Proposed Collection; Comment Request; Reporting Requirements for BEACH Act Grants, EPA ICR Number 2048.01, OMB Control Number 2040-0244

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on July 25, 2008. Before submitting the ICR to OMB for review and approval, EPA is soliciting comments on specific aspects of the proposed information collection as described below.

DATES: Comments must be submitted on or before September 8, 2008.

ADDRESSES: Submit your comments, referencing docket ID number OW-2008-0357, to EPA online at Regulations.gov using the Comment or Submission function (our preferred method), by hand delivery to the EPA Docket Center (EPA/DC) EPA West, Room 3334, 1301 Constitution Ave., NW., Washington, DC (during normal hours of operation), or by mail to: EPA Docket Center, Environmental Protection Agency, Water Docket (2822T), 1200 Pennsylvania Ave., NW., Washington, DC 20460.

FOR FURTHER INFORMATION CONTACT: Lars Wilcut, Standards and Health Protection Division, Office of Science and Technology (4305T), Environmental Protection Agency, 1200 Pennsylvania Ave., NW., Washington, DC 20460; telephone number: (202) 566-0447; fax number: (202) 566-0409; e-mail address: wilcut.lars@epa.gov.

SUPPLEMENTARY INFORMATION: EPA has established a public docket for this ICR under Docket ID number OW-2008-0357, which is available for public viewing at the Water Docket in the EPA Docket Center (EPA/DC), EPA West, Room 3334, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through the Regulations.gov Web site (http://www.regulations.gov/). Use Regulations.gov to obtain a copy of the draft collection of information, submit or view public comments, access the index listing of the contents of the public docket, and to access those documents in the public docket that are available electronically. Once in the system, then key in the docket ID number identified above in the Comment or Submission field. Any comments related to this ICR should be submitted to EPA within 60 days of this notice.

EPA's policy is that public comments, whether submitted electronically or in paper, will be made available for public viewing on Regulations.gov without change as they are received by EPA, with the exception of comments containing copyrighted material, confidential business information (CBI), or other information whose public disclosure is restricted by statute. When EPA identifies a comment containing copyrighted material, EPA will provide a reference to that material in the version of the comment that is placed on Regulations.gov. The entire printed comment, including the copyrighted material, will be available in the public docket. For those comments containing information claimed as CBI, or information otherwise restricted by statute, that material will be identified as an item in the official docket but will not be included in the official public docket or available for public viewing on Regulations.gov. For further information about the electronic docket, see EPA's Federal Register notice describing the electronic docket at 67 FR 38102 (May 31, 2002), or online at: http://www.regulations.gov.

Affected entities: Entities potentially affected by this action are those coastal and Great Lakes state, local, and tribal governments which are eligible for BEACH Act grants. These are governments that develop and implement programs for the monitoring and notification of coastal (marine and Great Lakes) recreation waters adjacent to beaches or similar points of access that are used by the public.

Title: Reporting Requirements for BEACH Act Grants.

Abstract: Congress passed the Beaches Environmental Assessment and Coastal Health (BEACH) Act in October 2000 to amend the Clean Water Act, in part by adding Section 406, “Coastal Recreation Water Monitoring and Notification.”

Section 406(b) authorizes EPA to make grants to state and local governments to develop and implement programs for the monitoring and public notification of coastal recreation waters adjacent to beaches or similar points of access that are used by the public upon satisfaction of the requirements of the BEACH Act. The Section obligates a grant recipient to collect and submit information to EPA as a condition for receiving the grant. Specific provisions of 406(b) include the requirements that a grant recipient submit the factors used to prioritize funds and a list of waters for which the grant funds will be used, and that a grant recipient's program be consistent with the performance requirements set by EPA under section 406(a). EPA needs this information from the grant recipients to determine if their monitoring and notification programs are consistent with these criteria. On July 19, 2002, EPA published the National Beach Guidance and Required Performance Criteria for Grants (67 FR 47540). Section 406(b) obligates grant recipients to submit a report to EPA describing the data collected as part of a monitoring and notification program and the actions taken to notify the public when water quality standards are exceeded.

Section 406(c) requires a grant recipient to identify lists of coastal recreation waters, processes for states to delegate the responsibility for implementing a monitoring and notification program to local governments, and the content of the monitoring and notification program.

The information encompassed by this ICR is required of states and local governments that seek to obtain BEACH Act funding. It allows EPA to properly review state and local governments' monitoring and notification programs to determine if they are eligible for BEACH Act grant funding, and enables EPA to fulfill its obligations to make this information available to the public under Sections 406(e) and (g).

An agency may not conduct nor sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 1,993 hours per grant recipient per year. This burden represents a report and accompanying data to be are submitted each year by the 40 eligible states and territories. In subsequent years, authorized tribes and local governments may also become eligible for BEACH Act grants. Burden means the total time, effort, or financial resources expended by persons to generate, maintain, retain, or disclose or provide information to or for a Federal agency. This includes the time needed to: (1) Review instructions; (2) develop, acquire, install, and utilize technology and systems for the purposes of collecting, validating, and verifying information, processing and maintaining information, and disclosing and providing information; (3) adjust the existing ways to comply with any previously applicable instructions and requirements; train personnel to be able to respond to a collection of information; (4) search data sources; (5) complete and review the collection of information; and (6) transmit or otherwise disclose the information.

Dated: July 1, 2008.
Ephraim King,
Director, Office of Science and Technology.

[FR Doc. E8-15439 Filed 7-7-08; 8:45 am]

BILLING CODE 6560-50-P